DEPARTMENT OF ENERGY

Federal Energy Regulatory Commission

Notice of Application and Applicant-Prepared EA Accepted for Filing, Soliciting Motions To Intervene and Protests, and Soliciting Comments, and Final Recommendations, Terms and Conditions, and Prescriptions

September 30, 2005.

Take notice that the following hydroelectric application and applicant-prepared environmental assessment has been filed with the Commission and is available for public inspection.

a. Type of Application: New major license.

b. Project No.: 2219-020.

c. Date Filed: April 29, 2005.

d. Applicant: Garkane Energy Cooperative, Inc. (Garkane).

e. Name of Project: Boulder Creek Hydroelectric Project.

f. Location: On Boulder Creek about 6 miles north of the town of Boulder in Garfield County, Utah. About 29.6 acres are located on the Dixie National Forest.

g. Filed Pursuant to: Federal Power Act 16 U.S.C. 791 (a)—825(r).

h. Applicant Contact: John Spendlove, P.E., Jones and DeMille Engineering, 1535 South 100 West, Richfield, UT 84710; (435) 896-8266.

i. FERC Contact: Dianne Rodman, (202) 502-6077, E-mail: Dianne.rodman@ferc.gov.

j. Deadline for filing motions to intervene and protests, comments, and final recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. The existing project consists of: (1) The West Fork rock-filled 20-foot-high, 30-foot-long diversion dam with ungated spillway and gates on the West Fork of Boulder Creek; (2) a buried 17,600-foot-long, 27-inch-diameter concrete conduit running from the West Fork dam to the East Fork of Boulder Creek; (3) the East Fork earth-filled 29-foot-high, 630-foot-long forebay dam with an ogee concrete spillway on the East Fork of Boulder Creek; (4) a 22,200-foot-long, 31.5 to 34-inch-diameter steel penstock running from the East Fork dam to the Boulder Plant powerhouse; (5) the seasonally-operated Peterson Plant powerhouse located about 17,000 feet below the East Fork dam with an installed capacity of 100 kilowatts (kW); (6) the Boulder Plant powerhouse located at the downstream end of the penstock with an installed capacity of 1,400 kW; (7) an afterbay re-regulating pool formed by a 12-foot-high earth-filled dam with gates and ditches; (8) a 35,000-foot-long, 7.2-kilovolt (kV) distribution and communication line from the West Fork dam to the East Fork dam and on to the Peterson Plant powerhouse; (9) a 4,725-foot-long, 12.47/7.2-kV distribution and communication line from the Peterson Plant powerhouse to the Boulder Plant substation; (10) a 100-foot-long, 2,400-volt transmission line connecting the Boulder Plant powerhouse with the Boulder Plant substation; and (11) other appurtenant structures and equipment.

Garkane proposes to reconstruct the West Fork dam to provide storage for fishery enhancement. Garkane would increase the height of the dam by 12.5 feet to a new height of 36.5 feet, resulting in a surface area of about 4.8 acres and a storage capacity of 54.2 acre-feet. Garkane would continue to operate the project in run-of-river mode.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

Magalie R. Salas,
Secretary.

[FR Doc. E5-5496 Filed 10-5-05; 8:45 am]

BILLING CODE 6717-01-P